FEDERAL DEPOSIT INSURANCE CORPORATION

Agency Information Collection Activities: Proposed Collection Renewals; Comment Request

AGENCY: Federal Deposit Insurance Corporation (FDIC).

ACTION: Notice and request for comment.

SUMMARY: The FDIC, as part of its continuing effort to reduce paperwork and respondent burden, invites the general public and other federal agencies to take this opportunity to comment on continuing information collections, as required by the Paperwork Reduction Act of 1995 (44 U.S.C. chapter 35). Currently, the FDIC is soliciting comments concerning the following collections of information: Certified Statement for Deposit Insurance Assessment (3064-0057); Student Educational Employment Program (3064-0147); and Complex Structured Finance Transactions (3064-0148).

DATES: Comments must be submitted on or before July 2, 2007.

ADDRESSES: Interested parties are invited to submit written comments by any of the following methods. All comments should refer to the name of the collection:

• http://www.FDIC.gov/regulations/laws/federal/notices.html.

• E-mail: comments@fdic.gov. Include the name of the collection in the subject line of the message.

• Mail: Steve Hanft (202-898-3907), Clearance Officer, Federal Deposit Insurance Corporation, 550 17th Street, NW., Washington, DC 20429.

• Hand Delivery: Comments may be hand-delivered to the guard station at the rear of the 550 17th Street Building (located on F Street), on business days between 7 a.m. and 5 p.m.

A copy of the comments may also be submitted to the OMB Desk Officer for the FDIC, Office of Information and Regulatory Affairs, Office of Management and Budget, New Executive Office Building, Washington, DC 20503.

FOR FURTHER INFORMATION CONTACT: Steve Hanft (address above).

SUPPLEMENTARY INFORMATION: 1. Title: Certified Statement for Deposit Insurance Assessment.

OMB Number: 3064-0057.

Frequency of Response: Quarterly.

Affected Public: Insured financial institutions.

Estimated Number of Respondents: 8,681.

Estimated Time per Response: 20 minutes.

Total Annual Burden: 11,575 hours.

General Description of Collection: The FDIC collects deposit insurance assessments quarterly by means of direct debits through the automated Clearing House network.

2. Title: Student Educational Employment Program.

OMB Number: 3064-0147.

Frequency of Response: On occasion.

Affected Public: Students seeking employment with the FDIC.

Estimated Number of Responses: 700.

Estimated Time per Response: 0.33 hours.

Total Annual Burden: 231 hours.

General Description of Collection: The application form used in this collection ensures that students seeking employment with FDIC as participants in either one of the two components of the Student Educational Employment Program (i.e., the Student Temporary Employment Program (STEP) or the Student Career Experience Program (SCEP)) meet the government-wide eligibility criteria established by the Office of Personnel Management as well as the internal eligibility criteria established by the FDIC. The information collected will include information on the applicant's coursework, grade point averages, and relationship to any FDIC employee.

3. Title: Complex Structured Finance Transactions.

OMB Number: 3064-0148.

Frequency of Response: On occasion.

Affected Public: State nonmember banks actively involved in complex structured finance transactions.

Estimated Number of Responses: 5.

Estimated Time per Response: 25 hours.

Total Annual Burden: 125 hours.

General Description of Collection: Institutions verify and update their policies and procedures regarding complex structured finance transactions periodically to ensure that they are adequate and current.

Request for Comment

Comments are invited on: (a) Whether these collections of information are necessary for the proper performance of the FDIC's functions, including whether the information has practical utility; (b) the accuracy of the estimates of the burden of the information collections, including the validity of the methodology and assumptions used; (c) ways to enhance the quality, utility, and clarity of the information to be collected; (d) ways to minimize the burden of the information collections on respondents, including through the use of automated collection techniques or other forms of information technology; and (e) estimates of capital or start up costs, and costs of operation, maintenance and purchase of services to provide the information.

At the end of the comment period, the comments and recommendations received will be analyzed to determine the extent to which the collections should be modified prior to submission to OMB for review and approval. Comments submitted in response to this notice also will be summarized or included in the FDIC's requests to OMB for renewal of these collections. All comments will become a matter of public record.

Dated at Washington, DC, this 26th day of April, 2007.
Federal Deposit Insurance Corporation.
Robert E. Feldman,
Executive Secretary.

[FR Doc. 07-2116 Filed 4-30-07; 8:45 am]

BILLING CODE 6714-01-M